INTERNATIONAL TRADE COMMISSION

[Investigation No. 337-TA-785]

In the Matter of Certain Light-Emitting Diodes and Products Containing Same; Notice of Commission Decision Not To Review an Initial Determination Granting Complainant's Motion To Amend the Complaint and Notice of Investigation

AGENCY: U.S. International Trade Commission.

ACTION: Notice.

SUMMARY: Notice is hereby given that the U.S. International Trade Commission has determined not to review an initial determination (“ID”) (Order No. 8) of the presiding administrative law judge (“ALJ”) granting complainant's motion to amend the complaint and notice of investigation in the above-captioned investigation.

FOR FURTHER INFORMATION CONTACT: Clint Gerdine, Esq., Office of the General Counsel, U.S. International Trade Commission, 500 E Street, SW., Washington, DC 20436, telephone (202) 708-2310. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on July 11, 2011, based on two complaints filed by OSRAM GmbH (now OSRAM AG) (“OSRAM”) of Munich, Germany. 76 FR 40746-47. The complaints allege violations of section 337 of the Tariff Act of 1930, as amended, 19 U.S.C. 1337, in the importation into the United States, the sale for importation, and the sale within the United States after importation of certain light-emitting diodes and products containing same by reason of infringement of certain claims of U.S. Patent Nos. 6,812,500; 7,078,732; 7,126,162; 7,345,317; 7,629,621; 6,459,130; 6,927,469; 7,199,454; and 7,427,806. The complaints further allege the existence of a domestic industry. The Commission's notice of investigation named the following respondents: Samsung Electronics Co., Ltd. of Gyeonggi-do, Korea; Samsung LED Co., Ltd. of Gyeonggi Province, Korea; Samsung Electronics America, Inc. of Ridgefield Park, New Jersey; Samsung LED America, Inc. of Atlanta, Georgia; LG Electronics, Inc. and LG Innotek Co., Ltd., both of Seoul, South Korea; LG Electronics U.S.A., Inc. of Englewood Cliffs, New Jersey; and LG Innotek U.S.A., Inc. of San Diego, California.

On September 6, 2011, OSRAM filed a motion to amend the complaint and notice of investigation to reflect a corporate name change from OSRAM GmbH to OSRAM AG, to correct the addresses of Samsung Electronics Co., Ltd. and Samsung LED Co., Ltd., and to make other typographical changes.

On September 19, 2011, the ALJ issued the subject ID granting the motion to amend the complaint and notice of investigation. No party petitioned for review of the ID pursuant to 19 CFR 210.43(a). The Commission has determined not to review this ID.

The authority for the Commission's determination is contained in section 337 of the Tariff Act of 1930, as amended, 19 U.S.C. 1337, and in sections 210.14 and 210.42(h) of the Commission's Rules of Practice and Procedure, 19 CFR 210.14, 210.42(h).

By order of the Commission.
Issued: October 11, 2011.
James R. Holbein,
Secretary to the Commission.

[FR Doc. 2011-26668 Filed 10-14-11; 8:45 am]

BILLING CODE 7020-02-P